DEPARTMENT OF TRANSPORTATION

Federal Highway Administration

Environmental Impact Statement: Warren County, IA

AGENCY: Federal Highway Administration (FHWA), DOT, Warren County.

SUMMARY: The FHWA will be issuing this notice to advise the public an EIS will be prepared for a proposed roadway project in Warren County, Iowa. The planned EIS will evaluate potential transportation improvement alternatives for serving West Des Moines, Des Moines, and Warren County between I-35 South/R35 and IA 5/South 11th Street.

FOR FURTHER INFORMATION CONTACT: Michael LaPietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1225.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web. For dial-up mode a user needs a personal computer, modem, telecommunications software package, and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation and Warren County, will prepare an EIS for the proposed Southwest Connector corridor study. The proposed project includes roadway improvements to provide a high-speed, 5-lane roadway between I-35 South/R35 and IA 5/South 11th Street.

The purpose of the SW Connector is to prepare for increased travel demand in and around Warren County, Des Moines, and West Des Moines. Construction of the proposed interchange and roadway will decrease congestion at the IA 5/I-35 south interchange and provide alternate means of travel between 11th Street and I-35 South as well as provide additional access to Des Moines, West Des Moines, and Warren County.

Alternatives under consideration include: (1) Taking no action; (2) widening existing roadways; and, (3) constructing a roadway on a new location. The build alternative will include consideration of various alignments and grades.

Letters describing the proposed action and soliciting comments will be sent to appropriate Federal, State, and local agencies, and to private organizations and citizens who have previously expressed or are known to have interest in this proposal. A series of public meetings will be held in 2007 and 2008. In addition, a public hearing will be held upon completion of the draft EIS. Public notice will be given of the time and place of the public meetings and public hearing. The draft EIS will be available for public and agency review and comment prior to the public hearing.

A scoping meeting (the initial public meeting) will be held identifying significant issues to be addressed in the environmental impact statement. The date and location of the scoping meeting have not yet been determined but will be advertised in various local media.

To ensure that the full range of issues related to this proposed action is addressed and all significant issues are identified, comments and suggestions are invited from all interested parties. Comments or questions concerning this proposed action and the EIS should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program.)

(Authority: 23 U.S.C. 315; 49 CFR 1.48)

Dated: April 20, 2007.
Philip E. Barnes,
Division Administrator, FHWA, Iowa Division.

[FR Doc. E7-7996 Filed 4-25-07; 8:45 am]

BILLING CODE 4910-22-P